DEPARTMENT OF ENERGY

Federal Energy Regulatory Commission

[Docket No. RP01-64-000]

Southern Natural Gas Company; Notice of Compliance Filing

October 31, 2000.

Take notice that on October 25, 2000, Southern Natural Gas Company (Southern), tendered for filing as part of its FERC Gas Tariff, Sixth Revised Volume 1, the following revised tariff sheets, with an effective date of December 1, 2000:

Sixth Revised Sheet No. 142

Southern states that the revised tariff sheet is being filed in conjunction with the Commission's Order No, 587-L. Standards for Business Practices of Interstate Natural Gas Pipelines, Order No. 587-L, 65 FR 41873 (July 7, 2000), FERC Stats. & Regs. Regulations 31,100 (June 30, 2000).

Southern stated that its current tariff and system procedures are in compliance with Order No. 587-L, but that it is filing this enhancement to be consistent with the newly proposed GISB standards. Specifically, the attached tariff sheet provides for a seventeen day trading period after the end of the month for the netting and trading of imbalances. It also contains specific procedures allowing Shippers to maintain a standing request for Southern to post a Shipper's imbalances on a monthly basis.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28375 Filed 11-03-00; 8:45 am]

BILLING CODE 6717-1-M